FEDERAL COMMUNICATIONS COMMISSION

47 CFR Part 73

[DA 07-2091; MB Docket No. 03-120; RM-10839]

Radio Broadcasting Services; Chattanooga, Halls Crossroads, Harrogate, and Lake City, TN

AGENCY: Federal Communications Commission.

ACTION: Final rule; dismissal of petition for reconsideration.

SUMMARY: The staff approves the withdrawal of a petition for reconsideration in this FM allotment rulemaking proceeding and finds no reason for further consideration of the matters raised therein. See SUPPLEMENTARY INFORMATION.

FOR FURTHER INFORMATION CONTACT: Andrew J. Rhodes, Media Bureau, (202) 418-2180.

SUPPLEMENTARY INFORMATION: This is a synopsis of the Commission's Memorandum Opinion and Order, MB Docket No. 03-120, adopted May 16, 2007, and released May 18, 2007. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

The Report and Order in this proceeding granted a counterproposal filed by JBD Incorporated and dismissed a rulemaking petition filed by Ronald C. Meredith. The Report and Order substitued Channel 244A for Channel 243A at Harrogate, Tennessee, reallotted Channel 244A to Halls Crossroads, Tennessee, and modified the license for Station WMYL(FM), accordingly. The withdrawal of the petition for reconsideration complies with Section 1.420(j) of the Commission's rules because Reynolds Technical Associates, LLC has documented that neither it nor its principals have or will receive any consideration in exchange for the withdrawal of its petition. See 69 FR 34114 (June 18, 2004).

This document is not subject to the Congressional Review Act. (The Commission, is, therefore, not required to submit a copy of this Memorandum Opinion and Order to GAO, pursuant to the Congressional Review Act, see 5 U.S.C. 801(a)(1)(A) because the petition for reconsideration was dismissed).

Federal Communications Commission.
John A. Karousos,
Assistant Chief, Audio Division, Media Bureau.

[FR Doc. 07-2818 Filed 6-6-07; 8:45 am]

BILLING CODE 6712-01-M